DEPARTMENT OF AGRICULTURE

Animal and Plant Health Inspection Service

[Docket No. APHIS-2023-0048]

Notice of Availability of an Evaluation of the Classical Swine Fever Disease Status of Costa Rica

AGENCY: Animal and Plant Health Inspection Service, USDA.

ACTION: Notice of availability.

SUMMARY: We are advising the public that we are proposing to recognize Costa Rica as being free of classical swine fever. This proposed recognition is based on a risk evaluation we have prepared in connection with this action, which we are making available for review and comment.

DATES: We will consider all comments that we receive on or before September 6, 2024.

ADDRESSES: You may submit comments by either of the following methods:

• Federal eRulemaking Portal: Go to www.regulations.gov. Enter APHIS-2023-0048 in the Search field. Select the Documents tab, then select the Comment button in the list of documents.

• Postal Mail/Commercial Delivery: Send your comment to Docket No. APHIS-2023-0048, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Rebecca Gordon, Senior Staff Officer, Regionalization Evaluation Services, Veterinary Services, APHIS, USDA, 920 Main Campus Drive, Venture II, 3rd Floor, Raleigh, NC 27606; email: AskRegionalization@usda.gov; (919) 855-7741.

SUPPLEMENTARY INFORMATION: The regulations in 9 CFR part 94 (referred to below as the regulations) govern the importation of certain animals and animal products into the United States in order to prevent the introduction of various animal diseases, including classical swine fever (CSF), a dangerous and communicable disease of swine. In part 94, § 94.9 contains requirements governing the importation of pork or pork products from regions where CSF exists. Section 94.10 contains importation requirements for swine from regions where CSF is considered to exist.

In accordance with §§ 94.9(a)(1) and 94.10(a)(1), the Animal and Plant Health Inspection Service (APHIS) maintains a web-based list of regions that the Agency considers free of CSF. Sections 94.9(a)(2) and 94.10(a)(2) state that APHIS will add a region to this list after it conducts an evaluation of the region and finds that CSF is not present.

Finally, under § 94.32, the importation into the United States of swine, pork, and pork products from certain regions that are considered free of CSF in accordance with §§ 94.9 and 94.10 is still subject to mitigations for CSF, because the exporting region either supplements their pork supplies with fresh (chilled or frozen) pork imported from regions considered to be affected by CSF, or supplements their pork supplies with pork from CSF-affected regions that is not processed in accordance with the regulations, or shares a common land border with CSF-affected regions, or imports live swine from CSF-affected regions under conditions less restrictive than would be acceptable for importation into the United States. The section specifies that there is a web-based list of such regions.

In the regulations in 9 CFR part 92, § 92.2 contains requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

In September 2020, the Government of the Republic of Costa Rica requested that APHIS evaluate the CSF disease status of the country. In response to Costa Rica's request, APHIS prepared an evaluation, titled “APHIS Evaluation of the Classical Swine Fever Status of the Republic of Costa Rica” (May 2023). Based on the evaluation, APHIS has determined that CSF is not known to exist in Costa Rica. APHIS has also determined that the surveillance, prevention, and control measures implemented by Costa Rica are sufficient to minimize the likelihood of introducing CSF into the United States via imports of species or products susceptible to this disease. However, because Costa Rica shares a common land border with regions in which CSF exists, we have also determined that requirements of § 94.32 should be operative, if Costa Rica is considered free of CSF. Our determination supports adding Costa Rica to the web-based list of regions that APHIS considers free of CSF.

Therefore, in accordance with the regulations in § 92.2, we are announcing the availability of our evaluation of the CSF status of Costa Rica for public review and comment. We are also announcing the availability of an environmental assessment (EA), which has been prepared in accordance with: (1) The National Environmental Policy Act of 1969 (NEPA), as amended (42 U.S.C. 4321 et seq.), (2) regulations of the Council on Environmental Quality for implementing the procedural provision of NEPA (40 CFR parts 1500-1508), (3) USDA regulations implementing NEPA (7 CFR part 1b), and (4) APHIS' NEPA Implementing Procedures (7 CFR part 372). The evaluation and EA may be viewed on the Regulations.gov website or in our reading room. (Instructions for accessing Regulations.gov and information on the location and hours of the reading room are provided under the heading ADDRESSES at the beginning of this notice.) The documents are also available by contacting the person listed under FOR FURTHER INFORMATION CONTACT.

Information submitted in support of Costa Rica's request is available by contacting the person listed under FOR FURTHER INFORMATION CONTACT.

After reviewing any comments we receive, we will announce our decision regarding the disease status of Costa Rica with respect to CSF in a subsequent notice.

Authority: 7 U.S.C. 1633, 7701-7772, 7781-7786, and 8301-8317; 21 U.S.C. 136 and 136a; 31 U.S.C. 9701; 7 CFR 2.22, 2.80, and 371.4.

Done in Washington, DC, this 1st day of August 2024.
Michael Watson,
Administrator, Animal and Plant Health Inspection Service.

[FR Doc. 2024-17428 Filed 8-6-24; 8:45 am]

BILLING CODE 3410-34-P